NATIONAL AERONAUTICS AND SPACE ADMINISTRATION

[Notice (07-014)]

Government-Owned Inventions, Available for Licensing

AGENCY: National Aeronautics and Space Administration.

ACTION: Notice of availability of inventions for licensing.

SUMMARY: The invention listed below assigned to the National Aeronautics and Space Administration, has been filed in the United States Patent and Trademark Office, and is available for licensing.

DATES: February 22, 2007.

FOR FURTHER INFORMATION CONTACT: Randy Heald, Patent Counsel, Kennedy Space Center, Mail Code CC-A, Kennedy Space Center, FL 32899; telephone (321) 867-7214; fax (321) 867-1817.

NASA Case No. KSC-12878: Bimetallic Treatment System and Its Application for Removal and Remediation of Polychlorinated Biphenyls (PCBs); NASA Case No. KSC-12899: Emission Control System; NASA Case No. KSC-12798: Data Acquisition System.

Dated: February 9, 2007.
Keith T. Sefton,
Deputy General Counsel, Administration and Management.

[FR Doc. E7-2913 Filed 2-21-07; 8:45 am]

BILLING CODE 7510-13-P